DEPARTMENT OF DEFENSE

Department of the Army, Corps of Engineers

Intent To Prepare a Draft Supplement Environmental Impact Statement (SEIS) to the 1996 Final Environmental Impact Statement for Coast of Florida Erosion and Storm Effects Study, Region III, Palm Beach, Broward, and Dade County, FL, To Address an Application for a Department of the Army Permit to Nourish Phipps Beach in Palm Beach County, FL

AGENCY: U.S. Army Corps of Engineers, DoD

ACTION: Notice of intent.

SUMMARY: Pursuant to Section 404 of the Clean Water Act and Section 10 of the Rivers and Harbors Act, the U.S. Army Corps of Engineers has regulatory authority to permit the discharge of dredge and fill material into waters of the United States. In compliance with its responsibilities under the National Environmental Policy Act (NEPA) of 1969, the Jacksonville District, U.S. Army Corps of Engineers intends to prepare a SEIS as a result of the dredge and fill permit application for the Phipps Ocean Park Beach Restoration project located within the Town of Palm Beach, Palm Beach County, Florida.

FOR FURTHER INFORMATION CONTACT: Brice McKoy, 561-683-0792, U.S. Army Corps of Engineers, Jacksonville District, Regulatory Division, South Permits Branch, 400 North Congress Avenue, Suite 130, West Palm Beach, Florida 33401.

SUPPLEMENTARY INFORMATION: The Town of Palm Beach, Florida is seeking a Department of Army permit to construct a 1.9-mile beach restoration project located in the Town of Palm Beach, Florida, between Florida Department of Environmental Protection reference monument R-116 and R-126 in the vicinity of Phipps Ocean Park. Approximately 1.5 million cubic yards of sand would be dredged from two borrow areas located approximately 3,500 feet offshore and approximately 1.5 and 2.6 miles south of the fill area. The beach fill profile consists of a +9 ft. NGVD berm elevation with an average construction berm width varying from 190 to 455 ft, with a projected life of 8 years. The shoreline within the project area contains rock outcrops located at and below the mean low water line. This project is located within project segment “6” in Palm Beach County and referred to as the “South-end Palm Beach Island Segment” in the Coast of Florida Erosion and Storm Effects Study, which was authorized on 16 July 1984, by Section 104 of the 1985 Appropriations Act (Public Law 98-360). The specific study area for this Draft Supplemental Environmental Impact Statement is approximately 1.9 miles of beach, between Sloans Curve and the Ambassador South II Condominium including Phipps Ocean Park and the Palm Beach Par 3 Golf Club, located within the Town of Palm Beach, Florida, in Sections 11, 14, and 23, Township 44 South, Range 43 East.

Alternatives: Alternatives are being considered in the study and will be addressed in the Draft SEIS. These alternatives include: no action alternatives, non-structural alternatives, revetment, beach fill with periodic nourishment, beach fill with periodic nourishment stabilized by an offshore breakwater or submerged artificial reef, beach nourishment with maintenance material from updrift inlet, beach fill and periodic nourishment stabilized by groins, seawalls, beach fill with periodic nourishment and hurricane surge protection sand dune, beach fill with periodic nourishment and hurricane surge protection—offshore breakwaters or submerged artificial reefs, nearshore berms, beach fill with nearshore berms, stabilization of beaches and dunes by vegetation, feeder beach: beach fill strategically located to nourish downdrift erosion problem areas, relocation of structures, flood proofing of structures, abandon or modify navigation projects, sand tightening of jetties, upgrading on construction of sand transfer plants for renourishment; dune restoration, PEP reef, and various combinations of the above.

Issues: The Draft SEIS will consider impacts on protected species, health, conservation, economics, aesthetics, general environmental concerns, wetlands (and other aquatic resources), historic properties, fish and wildlife value, flood hazards, floodplain values, land use, navigation, recreation, water supply and conservation, water quality, energy needs, safety, food and fiber production, mineral needs, considerations of property ownership, and, in general, the needs and welfare of the people, and other issues identified through scoping, public involvement and interagency coordination.

Scoping: The scoping process will involve Federal, State, county, municipal agencies, and other interested persons and organizations. A scoping letter will be sent to interested Federal, State, county and municipal agencies requesting their comments and concerns. Any persons and organizations wishing to participate in the scoping process should contact the U.S. Army Corps of Engineers at the above address. Significant issues that are anticipated include concern for nearshore and offshore hard bottom communities, fisheries, water quality, threatened and endangered species, and cultural resources.

Public Involvement: We invite the participation of affected federal, state and local agencies, affected Indian tribes, and other private organizations and parties by submitting written comments to the information contact provided in this notice.

Coordination: Coordination with the U.S. Fish and Wildlife Service has been completed in compliance with Section 7 of the Endangered Species Act. Coordination with the National Marine Fisheries Service will be accomplished in compliance with Section 7 of the Endangered Species Act. Coordination required by applicable Federal and State laws and policies will be conducted. Since the project will require the discharge of material into waters of the United States, the discharge will comply with the provisions of Section 404 of the Clean Water Act as amended and Section 10 of the Rivers and Harbors Act.

Other Environmental Review and Consultation: The State of Florida Department of Environmental Protection has released a notice of intent to issue, File Number 0165332-001-JC, or the proposed project pursuant to Section 401 of the Clean Water Act.

This proposed action may also require certification of State lands, easements, and rights of way.

Draft SEIS Preparation: It is estimated that the Draft SEIS will be available to the public during October of 2001.

Luz D. Ortiz,
Army Federal Register Liaison Officer.

[FR Doc. 01-21699 Filed 8-27-01; 8:45 am]

BILLING CODE 3710-AJ-M